DEPARTMENT OF HEALTH AND HUMAN SERVICES

Office of the National Coordinator; American Health Information Community Chronic Care Workgroup Meeting

ACTION: Announcement of meeting.

SUMMARY: This notice announces the ninth meeting of the American Health Information Community Chronic Care Workgroup in accordance with the Federal Advisory Committee Act (Pub. L. No. 92-463, 5 U.S.C., App.).

DATES: September 20, 2006 from 1 p.m. to 4 p.m.

ADDRESSES: Mary C. Switzer Building (330 C Street, SW., Washington, DC 20201), Conference Room 4090. [Please bring photo ID for entry to a Federal building.]

FOR FURTHER INFORMATION CONTACT: http://www.hhs.gov/healthit/ahic/cc_main.html.

SUPPLEMENTARY INFORMATION: The meeting will be available via Web cast at http://www.eventcenterlive.com/cfmx/ec/login/login1.cfm?BID=67.

Dated: August 29, 2006.
Judith Sparrow,
Director, American Health Information Community, Office of Programs and Coordination, Office of the National Coordinator.

[FR Doc. 06-7455 Filed 9-5-06; 8:45 am]

BILLING CODE 4150-24-M